DEPARTMENT OF THE INTERIOR

Bureau of Land Management

[NM-120-1430-ET; NMNM 113684]

Public Land Order No. 7721; Withdrawal of National Forest System Land for Water Canyon Recreation Area Expansion; New Mexico

AGENCY: Bureau of Land Management, Interior.

ACTION: Public land order.

SUMMARY: This order withdraws 65 acres of National Forest System land from location and entry under the United States mining laws for a period of 20 years on behalf of the Forest Service to protect the expansion to the Water Canyon Recreation Area. The land has been and will remain open to such forms of disposition as may by law be made of National Forest System land and to mineral leasing.

DATES: Effective Date: January 2, 2009.

ADDRESSES: Socorro Field Office Manager, Bureau of Land Management, 901 S. Highway 85, Socorro, New Mexico 87801, and to the U.S. Forest Service Supervisor, Cibola National Forest, 2113 Osuna Road, NE., Suite A., Albuquerque, New Mexico 87113.

FOR FURTHER INFORMATION CONTACT: Doug Williams, Cibola National Forest, at the above address or at (505) 346-3869.

SUPPLEMENTARY INFORMATION: The Forest Service will manage the land to protect the unique recreational and historical values and the investment of Federal funds at the Water Canyon Recreation Area. This is an expansion of the original recreation area which was withdrawn by Public Land Order No. 1155 (20 FR 3876 (1955)).

Order

By virtue of the authority vested in the Secretary of the Interior by Section 204 of the Federal Land Policy and Management Act of 1976, 43 U.S.C. 1714 (2000), it is ordered as follows:

1. Subject to valid existing rights, the following described National Forest System land is hereby withdrawn from location and entry under the United States mining laws, (30 U.S.C. Ch.2 (2000)), to protect the unique recreational and historical values and the investment of Federal funds at the expansion of the Water Canyon Recreation Area:

New Mexico Principal Meridian

Cibola National Forest

T. 3 S., R. 3 W.,

Sec. 27, S½N½NE¼NE¼, S½NE¼NE¼, SE¼NE¼NW¼NE¼, NE¼SE¼NW¼NE¼, W½NE¼SE¼NE¼, W½SE¼NE¼, and N½NW¼NE¼SE¼.

The area described contains 65 acres in Socorro County.

2. The withdrawal made by this order does not alter the applicability of those public land laws governing the use of National Forest System land under lease, license, or permit, or governing the disposal of the mineral or vegetative resources other than under the mining laws.

3. This withdrawal will expire 20 years from the effective date of this order unless, as a result of a review conducted before the expiration date pursuant to Section 204(f) of the Federal Land Policy and Management Act of 1976, 43 U.S.C. 1714(f) (2000), the Secretary determines that the withdrawal shall be extended.

Dated: December 12, 2008.
C. Stephen Allred,
Assistant Secretary—Land and Minerals Management.

[FR Doc. E8-31244 Filed 12-31-08; 8:45 am]

BILLING CODE 3410-11-P